DEPARTMENT OF HOMELAND SECURITY

[Docket No. DHS-2007-0061]

Science and Technology Directorate; Submission for Review; New Information Collection Request for Support of TechSolutions New Account Request Data Form, New Capability Gap Data Form, and Feedback Data Form

AGENCY: Science and Technology Directorate, DHS.

ACTION: 30-day notice and request for comment.

SUMMARY: The Department of Homeland Security (DHS) TechSolutions program is responsible for providing information, technology, and training to the first responder community. The TechSolutions program will use web-based technology to collect submitter and capability gap information. DHS is soliciting public comment on the New Account Request Data (DHS Form 10015), New Capability Gap Data (DHS Form 10011), and Feedback Data (DHS Form 10012) forms and instructions (hereinafter “Forms Package”) designed to collect submitter and capability gap information from first responders (federal, state, local, and tribal police, firefighters, and Emergency Medical Service) through the TechSolutions Web site. This notice and request for comments is required by the Paperwork Reduction Act of 1995 (Pub. L. 104-13, 44 U.S.C. chapter 35).

DATES: Comments are encouraged and will be accepted until September 27, 2007. This process is conducted in accordance with 5 CFR 1320.10.

ADDRESSES: You may submit comments, identified by docket number [DHS-2007-0061], by one of the following methods:

• Federal eRulemaking Portal: http://www.regulations.gov. Follow the instructions for submitting comments.

• E-mail: ken.rogers@dhs.gov. Include docket number [DHS-2007-0061] in the subject line of the message.

• Mail: Science and Technology Directorate, ATTN: OCIO/Ken Rogers, 245 Murray Drive, Bldg 410, Washington, DC 20528.

FOR FURTHER INFORMATION CONTACT: Ken Rogers (202) 254-6185 (this is not a toll free number).

SUPPLEMENTARY INFORMATION: This request for comment was previously published in the Federal Register on May 30, 2007, for a 60-day public comment period ending July 31, 2007. No comments were received by DHS during the 60-day comment period. The purpose of this notice is to allow an additional 30 days for public comments. This notice and request for comments is required by the Paperwork Reduction Act of 1995 (Pub. L. 104-13, 44 U.S.C. chapter 35).

DHS invites the general public to comment on the proposed “Forms Package”, as described below.

Interested parties can obtain copies of the Forms by calling or writing to the point of contact listed above.

Please note that the Forms Package include three forms for collecting submitter and capability gap information from first responders (federal, state, local, and tribal police, firefighters, and Emergency Medical Service). As explained herein, these separate forms are intended to be flexible and permit DHS S&T to address reported capability gaps, leading to improved safety and productivity without undue bureaucratic burden. The Department is committed to improving its TechSolutions processes and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: New information collection.

(2) Title of the Form/Collection: TechSolutions New Account Request Data Form, New Capability Gap Data Form, and Feedback Data Form.

(3) Agency Form Number, if any, and the applicable component of the Department of Homeland Security sponsoring the collection: New Account Request Data Form (DHS Form 10015), New Capability Gap Data Form (DHS Form 10011), and Feedback Data Form (DHS Form 10012).

(4) Affected public who will be asked or required to respond, as well as a brief abstract: Business or other for-profit, not-for-profit institutions, and state, local or tribal government; the data collected through the TechSolutions Forms Package will be used to address reported capability gaps, leading to improved safety and productivity for first responders.

(5) An estimate of the total number of respondents and the amount of time estimated for an average respondent to respond: New Account Request Data Form—75,000 respondents annually/30 minutes per respondent, New Capability Gap Data Form—500 respondents annually/2 hours per respondent, and Feedback Data Form—500 respondents annually/30 minutes per respondent.

(6) An estimate of the total public burden (in hours) associated with the collection: 38,750 burden hours.

Dated: August 15, 2007.
Kenneth D. Rogers,
Chief Information Officer, Science and Technology Directorate.

[FR Doc. E7-17027 Filed 8-27-07; 8:45 am]

BILLING CODE 4410-10-P